DEPARTMENT OF LABOR

Office of the Secretary

Submission for OMB Review: Comment Request

August 31, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of currently approved collection.

Title: Labor Organization and Auxiliary Reports.

OMB Number: 1215-0188.

Frequency: Annually and Semi-annually.

Type of Response: Reporting and Recordkeeping.

Affected Public: Not-for-profit institutions.

Number of Respondents: 27,849.

Reporting and Recordkeeping Burden Hours
Forms | Responses | Hours per respondent for reporting | Reporting burden hours | Hours per respondent for recordkeeping | Recordkeeping burden hours | Total hours
LM-1 | 255 | 0.83 | 212 | 0.08 | 20 | 232
LM-2 | 3,827 | 146.00 | 558,742 | 390.00 | 1,492,530 | 2,051,272
LM-3 | 10,812 | 52.00 | 562,224 | 64.00 | 691,968 | 1,254,192
LM-4 | 6,355 | 8.00 | 50,840 | 2.00 | 12,710 | 63,550
LM-10 | 1,766 | 0.50 | 883 | 0.08 | 141 | 1,024
LM-15 | 354 | 1.50 | 531 | 0.33 | 117 | 648
LM-15A | 68 | 0.33 | 22 | 0.03 | 2 | 24
LM-16 | 95 | 0.33 | 31 | 0.02 | 2 | 33
LM-20 | 90 | 0.33 | 30 | 0.03 | 3 | 33
LM-21 | 11 | 0.50 | 6 | 0.08 | 1 | 7
LM-30 | 3,494 | 0.50 | 1,747 | 0.08 | 280 | 2,027
S-1 | 179 | 0.50 | 90 | 0.08 | 14 | 104
SARF* | 543 | 0.17 | 92 | 0.03 | 16 | 108
Total | 27,849 |  | 1,175,450 |  | 2,197,804 | 3,373,254
Note: Some numbers may not add due to rounding.
* Simplified Annual Report Format.

Total Annualized capital/startup costs: $0.

Total Annual Costs (operating/maintaining systems or purchasing services): $0.

Description: Congress enacted the Labor-Management Reporting and Disclosure Act of 1959, as amended (LMRDA), to provide for the disclosure of information on the financial transactions and administrative practices of labor organizations. The statute also provides, under certain circumstances, for reporting by labor organization officers and employees, employers, labor relations consultants, and surety companies. Section 208 of the LMRDA authorizes the Secretary to issue rules and regulations prescribing the form of the required reports. The reporting provisions were devised to implement a basic tenet of the LMRDA: The guarantee of democratic procedures and safeguards within labor organizations that are designed to protect the basic rights of union members. Section 205 of the LMRDA provides that the reports are public information.

The Office of Labor-Management Standards (OLMS) administers the reporting provisions of the LMRDA to the statute (29 U.S.C. 431 et seq.) and the implementing and interpreting regulations (29 CFR Chapter IV).

Ira L. Mills,
Departmental Clearance Officer.

[FR Doc. E6-14833 Filed 9-6-06; 8:45 am]

BILLING CODE 4510-23-P